DEPARTMENT OF THE INTERIOR

National Park Service

[NPS-WASO-NAGPRA-11046; 2200-1100-665]

Notice of Inventory Completion: American Museum of Natural History, New York, NY; Correction

AGENCY: National Park Service, Interior.

ACTION: Notice; correction.

Notice is here given in accordance with the Native American Graves Protection and Repatriation Act (NAGPRA), 25 U.S.C. 3003, of the completion of an inventory of human remains in the possession of the American Museum of Natural History, New York, NY. The human remains were removed from Clallam County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the minimum number of individuals published in a Notice of Inventory Completion in the Federal Register (69 FR 42771-42772, July 16, 2004). Following the notice publication, museum staff discovered post-cranial elements of another individual from the site in Port Williams, Clallam County, WA. The total number of individuals from the site is increasing from 238 to 239.

In the Federal Register (69 FR 42771-42772, July 16, 2004), paragraph ten, sentence one is corrected by substituting the following sentence:

In 1899, human remains representing a minimum of 239 individuals were removed from the surface of a sand spit in Port Williams, Clallam County, WA, by Harlan I. Smith during the Jesup North Pacific Expedition.

In the Federal Register (69 FR 42771-42772, July 16, 2004), paragraph twelve, sentence one is corrected by substituting the following sentence:

Officials of the American Museum of Natural History have determined that, pursuant to 25 U.S.C. 3001 (9-10), the human remains described above represent the physical remains of a minimum of 391 individuals of Native American ancestry.

Additional Requestors and Disposition

Representatives of any other Indian tribe that believes itself to be culturally affiliated with the human remains should contact Nell Murphy, Director of Cultural Resources, American Museum of Natural History, 79th Street at Central Park West, New York, NY, 10024, telephone (212) 769-5837, before September 27, 2012. Repatriation of the human remains to the Jamestown S'Klallam Tribe of Washington; Lower Elwha Tribal Community of the Lower Elwha Reservation, Washington; and the Port Gamble Indian Community of the Port Gamble Reservation, Washington, may proceed after that date if no additional claimants come forward.

The American Museum of Natural History is responsible for notifying Jamestown S'Klallam Tribe of Washington; Lower Elwha Tribal Community of the Lower Elwha Reservation, Washington; and the Port Gamble Indian Community of the Port Gamble Reservation, Washington, that this notice has been published.

Dated: August 8, 2012.
Sherry Hutt,
Manager, National NAGPRA Program.

[FR Doc. 2012-20934 Filed 8-27-12; 8:45 am]

BILLING CODE 4312-50-P